DEPARTMENT OF EDUCATION

National Advisory Council on Indian Education

AGENCY: Department of Education, Office of Indian Education.

ACTION: Notice of an open meeting.

SUMMARY: This notice sets forth the schedule and proposed agenda of an upcoming open meeting of the National Advisory Council on Indian Education (the Council). The notice also describes the functions of the Council. Notice of this meeting is required by section 10(a)(2) of the Federal Advisory Committee Act and is intended to notify the public of their opportunity to attend. This notice is appearing in the Federal Register less than 15 days before the date of the meeting due to scheduling difficulties within the agency and with the Council.

DATE: February 7, 2008.

TIME: 9 a.m. to 4 p.m., Eastern Standard Time.

ADDRESSES: 400 Maryland Avenue, SW., Room 5C100, Washington, DC 20202.

FOR FURTHER INFORMATION CONTACT: Cathie Carothers, Director Office of Indian Education, National Advisory Council on Indian Education; 400 Maryland Avenue, SW., Washington, DC 20202; phone: (202) 260-7485; fax: (202) 260-4149; e-mail: Cathie.Carothers@ed.gov.

Individuals who use a telecommunications device for the deaf (TDD) may call the Federal Information Relay Service (FRS) at 1-800-877-8339, Monday through Friday between the hours of 8 a.m. and 8 p.m., Eastern Standard Time.

SUPPLEMENTARY INFORMATION: The National Advisory Council on Indian Education is authorized by Section 7141 of the Elementary and Secondary Education Act. The Committee is established within the Department of Education to advise the Secretary of Education on the funding and administration (including the development of regulations, and administrative policies and practices) of any program over which the Secretary has jurisdiction and includes Indian children or adults as participants or programs that may benefit Indian children or adults, including any program established under Title VII, Part A of the Elementary and Secondary Education Act. The Council submits to the Congress, not later than June 30 of each year, a report on the activities of the Council that includes recommendations the Council considers appropriate for the improvement of Federal education programs that include Indian children or adults as participants or that may benefit Indian children or adults, and recommendations concerning the funding of any such program.

The purpose of this meeting is to discuss reauthorization of the Elementary and Secondary Education Act; the President's fiscal year 2008 budget and the 2009 budget request; Executive Order 13336 activities; program updates; the Council's charter; and development of the Council's Annual Report to Congress.

Individuals who will need accommodations for a disability in order to attend the meeting (e.g., interpreting services, assistance listening devices, or materials in alternative format) should notify Cathie Carothers at (202) 260-7485 no later than February 1, 2008. We will attempt to meet requests for accommodations after this date but cannot guarantee their availability. The meeting site is accessible to individuals with disabilities.

Public Comment: 3:15 p.m. is scheduled on the Agenda for receipt of public comment.

Records are kept of all Committee proceedings and are available for public inspection at 400 Maryland Avenue, Room 5C132, Washington, DC 20202, from the hours of 9 a.m. to 5 p.m., Eastern Standard Time Monday through Friday.

Electronic Access to This Document: You may view this document, as well as all other documents of this Department published in the Federal Register, in text or Adobe Portable Document Format (PDF) on the Internet at the following site: http://www.ed.gov/news/federegister.

To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Kerri L. Briggs,
Assistant Secretary for Elementary and Secondary Education.

[FR Doc. E8-1608 Filed 1-29-08; 8:45 am]

BILLING CODE 4000-01-P